DEPARTMENT OF THE INTERIOR

National Park Service

[NPS-WASO-NAGPRA-NPS0035613; PPWOCRADN0-PCU00RP14.R50000]

Notice of Inventory Completion: U.S. Department of the Interior, Fish and Wildlife Service, Alaska Region, Anchorage, AK

AGENCY: National Park Service, Interior.

ACTION: Notice.

SUMMARY: In accordance with the Native American Graves Protection and Repatriation Act (NAGPRA), the U.S. Department of the Interior, Fish and Wildlife Service, Alaska Region (FWS Alaska) has completed an inventory of human remains and associated funerary objects with assistance from the University of Alaska Museum of the North and the Museum of the Aleutians, and has determined that there is a cultural affiliation between the human remains and associated funerary objects and Indian Tribes or Native Hawaiian organizations in this notice. The human remains and associated funerary objects were removed from archeological sites on Kagamil, Carlisle, and Ship Rock Islands in the Aleutians West Census Area, AK.

DATES: Repatriation of the human remains and associated funerary objects in this notice may occur on or after May 17, 2023.

ADDRESSES: Jeremy M. Karchut, Regional Archeologist/Regional Historic Preservation Officer, U.S. Fish and Wildlife Service, 1011 E Tudor Road, MS-235, Anchorage, AK 99503, telephone (907) 786-3399, email jeremy_karchut@fws.gov.

SUPPLEMENTARY INFORMATION: This notice is published as part of the National Park Service's administrative responsibilities under NAGPRA. The determinations in this notice are the sole responsibility of FWS Alaska. The National Park Service is not responsible for the determinations in this notice. Additional information on the determinations in this notice, including the results of consultation, can be found in the inventory or related records held by FWS Alaska.

Description

Kagamil Island, Warm Cave

In 1948 or 1949, during an expedition led by physical anthropologist William S. Laughlin, 18 associated funerary objects were removed from Warm Cave on Kagamil Island. In 2017, the Peabody Museum of Archaeology and Ethnology at Harvard University in Cambridge, MA, transferred these associated funerary objects to the University of Alaska Museum in Fairbanks, AK. The 18 associated funerary objects include four woven fiber mats, two wood tools, five pieces of work wood, one unworked piece of wood, two ground stone knife fragments, two wood panels, one abrader, and one soil sample.

Kagamil Island

Between 1947 and 1950, ethno-botanist Theodore P. Bank II and physical anthropologist William S. Laughlin removed human remains representing, at minimum, nine individuals from an unknown site—likely Cold Cave, Warm Cave, or Mask Cave—on Kagamil Island. Initially, these human remains and associated funerary objects were stored at the University of Michigan Museum of Anthropology in Ann Arbor, MI. In 1982, they were transferred to the University of Alaska Museum in Fairbanks, AK, and in 2002, they were transferred to the Museum of the Aleutians in Unalaska, AK. Following additional transfers, physical custody is of the human remains is currently split between the University of Alaska Museum in Fairbanks and the Museum of the Aleutians in Unalaska. These human remains belong to seven adults and two juveniles. No known individuals were identified. The 44 associated funerary objects are one awl, one bone fish hook shank, one bone foreshaft, one bone labret, one bone object, one bone point, two pieces of cordage, one flora sample, one grass bundle, one ivory labret, one ivory object, one kayak part, one matting and cordage lot, three matting bundles, 19 matting fragments, one pumice sample, one lot of slides, one skin/hide fragment, three soil samples, one wood object, and one wood shaft fragment.

In 1936, Olaus Murie removed human remains representing, at minimum, three individuals from “Mummy Cave”—likely Cold Cave, Warm Cave, or Mask Cave—on Kagamil Island. In 1973, Adolph Murie (Olaus' brother) and his wife Louise donated a collection amassed by Olaus and his wife Margaret to the Teton Science Schools, in Northwest Wyoming and Idaho, which included these human remains. In November of 2021, the human remains were found in the “Murie Museum closet,” and in August of 2022, they were transferred to the University of Alaska Museum in Fairbanks. No known individuals were identified. No associated funerary objects are present.

In 1938, William S. Laughlin removed 51 associated funerary objects from a cave —likely Cold Cave, Warm Cave, or Mask Cave—on Kagamil Island. Over the years, the Laughlin family donated these objects to the Museum of the Aleutians in Unalaska. The 51 associated funerary objects are one awl, four bifaces, three bone points, one bone wedge, one bundle of fiber/plant material, three pieces of cordage, two bundles of cordage, one ear bone, one flake tool, two foreshafts, two beads, one ground stone, one incised stone, one matting fragment, two lots of mixed fiber fragments, one piece of mold, one otter tooth, one pointed bone implement, four PPKs, four scrapers, two sea lion teeth, one seal tooth, one sealskin strap with fur, three ulus, one whale tooth, five worked bones, and one woven bag fragment.

In 1941, Malcolm Greany removed nine associated funerary objects from a cave —likely Cold Cave, Warm Cave, or Mask Cave—on Kagamil Island. In 1942, Greany gave these objects to the Alaska State Museum in Juneau, and in 2022, they were transferred to the Museum of the Aleutians in Unalaska. The nine associated funerary objects are nine grass mat fragments.

Ship Rock Island

At an unknown date, an unknown individual removed 11 associated funerary objects from Ship Rock Cave on Ship Rock Island, located in Umnak Strait between Umnak Island and Unalaska Island. (Possibly, Aleš Hrdlička removed these objects in 1937 and 1938.) Currently, the objects are housed at the Museum of the Aleutians in Unalaska. The 11 associated funerary objects are eight kayak parts, one wood vessel, one wood vessel bottom, and one wood shaft fragment.

Kagamil Island and Ship Rock Island

At an unknown date, an unknown individual removed nine associated funerary objects from a site—likely Cold Cave, Warm Cave, or Mask Cave—on Kagamil Island and from Ship Rock Cave on Ship Rock Island. (Possibly, Aleš Hrdlička removed these objects in 1937 and 1938.) The objects were housed at the Burke Museum in Seattle, WA, until 2016, when they were transferred to the University of Alaska Museum of the North. All nine associated funerary objects—seven from Kagamil Island and two from Ship Rock Island—are matting fragments.

Carlisle Island

In 1948 or 1949, physical anthropologist William S. Laughlin removed human remains representing, at minimum, one individual and six associated funerary objects from Carlisle Island. In 2019, the Peabody Museum of Archaeology and Ethnology at Harvard University transferred these remains and objects to the University of Alaska Museum in Fairbanks. The human remains belong to a juvenile individual. No known individual was identified. The six associated funerary objects are one pumice ground stone, two clam shells, one stone pallet, one matting fragment, and one worked bone.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological, archeological, geographical, biological, historical, oral traditional, and expert opinion

Determinations

Pursuant to NAGPRA and its implementing regulations, and after consultation with the appropriate Indian Tribes and Native Hawaiian organizations, FWS Alaska have determined that:

• The human remains described in this notice represent the physical remains of 13 individuals of Alaska Native ancestry.

• The 148 objects described in this notice are reasonably believed to have been placed with or near individual human remains at the time of death or later as part of the death rite or ceremony.

• There is a relationship of shared group identity that can be reasonably traced between the human remains and associated funerary objects described in this notice and the Native Village of Nikolski.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after May 17, 2023. If competing requests for repatriation are received, FWS Alaska must determine the most appropriate requestor prior to repatriation. Requests for joint repatriation of the human remains and associated funerary objects are considered a single request and not competing requests. FWS Alaska is responsible for sending a copy of this notice to the Indian Tribe identified in this notice.

Authority: Native American Graves Protection and Repatriation Act, 25 U.S.C. 3003, and the implementing regulations, 43 CFR 10.9, 10.10, and 10.14.

Dated: March 29, 2023.
Melanie O'Brien,
Manager, National NAGPRA Program.

[FR Doc. 2023-08053 Filed 4-14-23; 8:45 am]

BILLING CODE 4312-52-P